EXPORT-IMPORT BANK

[Public Notice 91]

Agency Information Collection Activities: Submission for OMB Review; Comment Request

AGENCY: Export-Import Bank of the U.S.

ACTION: Notice and Request for Comments.

SUMMARY: The Export-Import Bank, as a part of its continuing effort to reduce paperwork and respondent burden, invites the general public and other Federal Agencies to comment on the proposed information collection, as required by the Paperwork Reduction Act of 1995. Our customers will be able to submit this form electronically. The proposed forms may be viewed on our Web site at http://www.exim.gov/pub/ins/pdf/eib92-31_prop.pdf, http://www.exim.gov/pub/ins/pdf/eib92-32_prop.pdf, http://www.exim.gov/pub/ins/pdf/eib92-53_prop.pdf, http://www.exim.gov/pub/ins/pdf/eib99-17_prop.pdf.

DATES: Written comments should be received on or before October 30, 2006 to be assured of consideration.

ADDRESSES: Direct all comments to David Rostker, Office of Management and Budget, Office of Information and Regulatory Affairs, NEOB, Room 10202, Washington, DC 20503 (202) 395-3897.

SUPPLEMENTARY INFORMATION:

Titles and Form Numbers

EIB 92-31 Notification by Insured of Amounts Payable Under Multi-Buyer Export Credit Insurance Policy.

EIB 92-32 Notification by Insured of Amounts Payable Under Single-Buyer Export Credit Insurance Policy.

EIB 92-53 Small Business Multi-Buyer Export Credit Insurance Policy (ENB/ENV) Enhanced Assignment of Policy Proceeds.

EIB 99-17 Single Buyer Export Credit Insurance Policy (ESS/ESSP) Enhanced Assignment of Policy Proceeds.

OMB Numbers: None.

Type of Review: Regular.

Need and Use: The information requested allows for the assignment of the proceeds of an insurance policy to a financial institution.

Affected Public: The form affects entities involved in the export of U.S. goods and services.

Estimated Annual Respondents: 170 (new estimate).

Estimated Responses: 680 (4 originals per respondent).

Estimated time per Respondent: 10 minutes.

Estimate Annual Burden: 113.33 hours (new estimate).

Frequency of Reporting or Use: annually for an enhanced assignment and once for the life of a policy for the standard assignment.

Dated: September 22, 2006.
Solomon Bush,
Agency Clearance Officer.

[FR Doc. 06-8325 Filed 9-27-06; 8:45 am]

BILLING CODE 6690-01-M